DEPARTMENT OF TRANSPORTATION

Federal Aviation Administration

14 CFR Part 71

[Docket No. FAA-2003-14849; Airspace Docket No. 03-AWP-7]

Establishment of Class E Airspace; Beckwourth, CA

AGENCY: Federal Aviation Administration (FAA), DOT.

ACTION: Final rule; correction.

SUMMARY: This action corrects an error in the geographic coordinates of a Final Rule that was published in the Federal Register on June 14, 2004 (69 FR 32859), Docket No. FAA-2003-14849; Airspace Docket No. 03-AWP-7.

EFFECTIVE DATES: 0901 UTC August 5, 2004.

FOR FURTHER INFORMATION CONTACT: Jeri Carson, Airspace Specialist, Airspace Branch, AWP-520, Air Traffic Division, Western-Pacific Region, Federal Aviation Administration, 15000 Aviation Boulevard, Lawndale, California, 90261, telephone (301) 725-6611.

SUPPLEMENTARY INFORMATION:

History

Federal Register Document 04-13298, Docket No. FAA-2003-14849; Airspace Docket No. 03-AWP-7, published on June 14, 2004 (69 FR 32859), revised the geographic coordinates of the Class E airspace area at Beckwourth, CA. A typographical error was discovered in the geographic coordinates for the Beckwourth, CA, Class E airspace area. This action corrects those errors.

Correction to Final Rule

Accordingly, pursuant to the authority delegated to me, the geographic coordinates for the Class E airspace area at Beckwourth, CA, as published in the Federal Register on June 14, 2004 (69 FR 32859), (Federal Register Document 04-13298; page 32860, column 3) is corrected as follows:

§ 71.1 [Corrected]

* * * * *

AWP CA E5 Beckwourth, CA [Corrected]

Beckwourth-Nervino Airport, CA

(Lat. 39°49′07″ N. long. 120°21′10″ W.)

Reno-Tahoe International Airport, NV

(Lat. 39°29′57″ N. long. 119°46′05″ W.)

By removing “(lat. 39°52′00″N. long. 119°45′00″W.)” and substituting “(lat. 39°51′38″ N. long. 119°44′35″ W.)” and by removing “(lat. 39°48′00″ N. long. 120°00′00″ W.)” and substituting “(lat. 39°48′49″N. long. 120°00′00″W.)”.

* * * * *

Issued in Los Angeles, California, on July 27, 2004.
Leonard A. Mobley,
Manager, Airspace Branch, Western Terminal Operations.

[FR Doc. 04-18203 Filed 8-10-04; 8:45 am]

BILLING CODE 4910-13-M